DEPARTMENT OF COMMERCE

National Oceanic and Atmospheric Administration

Federal Consistency Appeal by Electric Boat Corporation

AGENCY: National Oceanic and Atmospheric Administration (NOAA), Department of Commerce (DOC).

ACTION: Notice of appeal.

SUMMARY: This announcement provides notice that the Department of Commerce (DOC) has received a “Notice of Appeal” filed by Electric Boat Corporation (Appellant) requesting that the Secretary override an objection by the New York State Department of State to a consistency certification for a proposed project to dispose of dredged material in the Eastern Long Island Sound Dredged Material Disposal Site.

DATES: You may submit written comments concerning this appeal or requests for a public hearing on or before March 25, 2020.

ADDRESSES: The National Oceanic and Atmospheric Administration (NOAA) intends to provide access to publicly available materials and related documents comprising the appeal record on the following website: http://www.regulations.gov/#!docketDetail;D=NOAA-HQ-2020-0021.

Comments or requests for a public hearing must be submitted by:

Electronic submission: Submit all electronic public comments or requests for a public hearing via the Federal eRulemaking portal. Go to (http://www.regulations.gov/#!docketDetail;D=NOAA-HQ-2020-0021), click the “Comment Now!” icon, complete the required fields, and enter or attach your comments. Comments sent by any other method, to any other address or individual, or received after the end of the comment period, may not be considered by NOAA.

FOR FURTHER INFORMATION CONTACT: For questions about this Notice, contact Lauren Bregman, NOAA Office of the General Counsel, Oceans and Coasts Section, 1305 East-West Highway, Room 6111, Silver Spring, MD 20910, (301) 713-7389, lauren.bregman@noaa.gov.

SUPPLEMENTARY INFORMATION:

I. Notice of Appeal

On January 24, 2020, the Secretary of Commerce (Secretary) received a “Notice of Appeal” filed by Electric Boat Corporation pursuant to the Coastal Zone Management Act of 1972 (CZMA), 16 U.S.C. 1451 et seq., and implementing regulations found at 15 CFR part 930, subpart H. The “Notice of Appeal” is taken from an objection by the New York State Department of State to a consistency certification for a proposed U.S. Army Corps of Engineers permit to dispose of dredged material in the Eastern Long Island Sound Dredged Material Disposal Site.

Under the CZMA, the Secretary may override the New York State Department of State's objection on grounds that the project is consistent with the objectives or purposes of the CZMA, or is necessary in the interest of national security. To make the determination that the proposed activity is “consistent with the objectives or purposes of the CZMA,” the Secretary must find that: (1) The proposed activity furthers the national interest as articulated in sections 302 or 303 of the CZMA, in a significant or substantial manner; (2) the national interest furthered by the proposed activity outweighs the activity's adverse coastal effects, when those effects are considered separately or cumulatively; and (3) no reasonable alternative is available that would permit the proposed activity to be conducted in a manner consistent with the enforceable policies of the applicable coastal management program. 15 CFR 930.121. To make the determination that the proposed activity is “necessary in the interest of national security,” the Secretary must find that a national defense or other national security interest would be significantly impaired if the proposed activity is not permitted to go forward as proposed. 15 CFR 930.122.

II. Request for Public and Federal Agency Comments

We encourage the public and interested federal agencies to participate in this appeal by submitting written comments and any relevant materials supporting those comments using the method specified in the ADDRESSES section of this notice. All comments received are a part of the public record, and will generally be posted for public viewing on www.regulations.gov without change. All personally identifiable information (e.g., name, address), confidential business information, or otherwise sensitive information submitted voluntarily by the sender will be publicly accessible. NOAA will accept anonymous comments (enter “N/A” in the required fields if you wish to remain anonymous).

III. Public Hearing Request

You may submit a request for a public hearing using the method specified in the ADDRESSES section of this notice. In your request, explain why you believe a public hearing would be beneficial. If we determine a public hearing would aid the decisionmaker, a notice announcing the date, time, and location of the public hearing will be published in the Federal Register. The public and federal agency comment period will also be reopened for a ten-day period following the conclusion of the public hearing to allow for additional input.

IV. Public Availability of Appeal Documents

NOAA intends to provide access to publicly available materials and related documents comprising the appeal record on the following website: http://www.regulations.gov/#!docketDetail;D=NOAA-HQ-2020-0021.

(Authority: 15 CFR 930.128(a))

Adam Dilts,
Chief, Oceans and Coasts Section, NOAA Office of the General Counsel.

[FR Doc. 2020-03577 Filed 2-21-20; 8:45 am]

BILLING CODE 3510-JE-P